DEPARTMENT OF ENERGY

Federal Energy Regulatory Commission

[Docket No. RP06-18-000]

Texas Eastern Transmission, LP; Notice of Cancellation of Rate Schedules

October 14, 2005.

Notice is hereby given that Texas Eastern Transmission, Inc. (Texas Eastern) filed a notice of cancellation stating that, effective November 11, 2005, Rate Schedules PTI and TS-2, constituting Sheet Nos. 261-264 and Sheet Nos. 451-453, respectively of the FERC Gas Tariff of Texas Eastern will be cancelled and associated tariff sheets will be modified, as reflected on Appendix A to the filing.

Texas Eastern states that the purpose of this filing is to remove from its tariff the rate schedules, pro forma service agreements and associated rate sheets for Rate Schedules PTI and TS-2, along with related provisions and references from the General Terms and Conditions. In addition, as related changes, Texas Eastern is proposing to modify the Table of Contents and the Index of Service Agreements to reflect the removal of these rate schedules.

Texas Eastern states that copies of its filing have been served upon all affected customers of Texas Eastern and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5822 Filed 10-20-05; 8:45 am]

BILLING CODE 6717-01-P